DEPARTMENT OF AGRICULTURE

Food and Nutrition Service

Agency Information Collection Activities: Proposed Collection; Comment Request—Annual Report of State Revenue Matching

AGENCY: Food and Nutrition Service, USDA.

ACTION: Notice and request for comments.

SUMMARY: In accordance with the Paperwork Reduction Act of 1995, this notice invites the general public to comment on the proposed information collection in the Annual Report of State Revenue Matching. The State agencies use this form to report State revenues used specifically by State agencies for school nutrition program purposes. The proposed collection is an extension of a collection currently approved for the Form FNS-13, Annual Report of State Revenue Matching.

DATES: Written comments on this notice must be received by November 27, 2007.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Melissa Rothstein, Chief, Program Analysis and Monitoring Branch, Child Nutrition Division, Food and Nutrition Service, USDA, 3101 Park Center Drive, Room 640, Alexandria, Virginia 22302. Comments may also be submitted via fax to the attention of Melissa Rothstein at (703) 305-2879 or via e-mail to melissa.rothstein@fns.usda.gov.

All written comments will be open for public inspection at the office of the Food and Nutrition Service during regular business hours (8:30 a.m. to 5 p.m., Monday through Friday) at 3101 Park Center Drive, Room 640, Alexandria, Virginia 22302.

All responses to this notice will be summarized and included in the request for OMB approval, and will become a matter of public record.

FOR FURTHER INFORMATION CONTACT: Requests for additional information or copies of this information collection should be directed to Melissa Rothstein at (703) 305-2590.

SUPPLEMENTARY INFORMATION: Title: Annual Report of State Revenue Matching.

OMB Numbers: 0584-0075.

Expiration Date: November 30, 2007.

Type of Request: Extention of a currently approved information collection.

Abstract: The National School Lunch Program is authorized by the Richard B. Russell National School Lunch Act, 42 U.S.C. 1751, et seq., and the Child Nutrition Act of 1966, 42 U.S.C. 1771, et seq. Program implementing regulations are contained in 7 CFR Part 210. In accordance with § 210.17 (g), State agencies must submit an annual report of State expenditures on school nutrition programs in order to receive Federal reimbursement for meals served to eligible participants.

Affected Public: State agencies that administer the National School Lunch Program.

Estimated Number of Respondents: 57.

Estimated Number of Responses per Respondent: The number of responses is estimated to be one submission per State agency per school year.

Estimate Time per Response: Public reporting burden for this collection of information is estimated to average 80 hours per respondent per submission.

Estimated Total Annual Burden: 4,560 hours.

Dated: September 20, 2007.
Roberto Salazar,
Administrator, Food and Nutrition Service.

[FR Doc. E7-19257 Filed 9-27-07; 8:45 am]

BILLING CODE 3410-30-P